DEPARTMENT OF HOMELAND SECURITY

Coast Guard

[Docket No. USCG-2017-0767]

Merchant Mariner Medical Advisory Committee

AGENCY: U.S. Coast Guard, Department of Homeland Security.

ACTION: Notice of Federal Advisory Committee Meeting.

SUMMARY: The Merchant Mariner Medical Advisory Committee and its Working Groups will meet to discuss matters relating to medical certification determinations for issuance of licenses, certificates of registry, and merchant mariners' documents, medical standards and guidelines for the physical qualifications of operators of commercial vessels, medical examiner education, and medical research. The meetings will be open to the public.

DATES: The Merchant Mariner Medical Advisory Committee and its Working Groups are scheduled to meet on Wednesday, October 18, 2017, and Thursday, October 19, 2017, from 8 a.m. until 5:30 p.m. Please note that these meetings may adjourn early if the Committee has completed its business.

ADDRESSES: The meetings will be held at the U.S. Coast Guard National Maritime Center in the Dales Larson Room on the third floor, 100 Forbes Drive, Martinsburg, WV 25404-0001(https://www.uscg.mil/nmc/).

Pre-registration Information: Pre-registration is required for access to U.S. Coast Guard, National Maritime Center. Foreign nationals participating will be required to pre-register no later than 4 p.m. on October 4, 2017, to be admitted to the meeting. U.S. citizens participating will be required to pre-register no later than 4 p.m. on October 11, 2017, to be admitted to the meeting. To pre-register, contact Mr. Davis Breyer at davis.j.breyer@uscg.mil or (202)372-1445. You will be asked to provide your name and telephone number. In addition, please provide the company or group in which you are affiliated. Foreign nationals will also need to provide your country of citizenship, passport country, country of residence, place of birth, passport number, and expiration date. All attendees will be required to provide a REAL ID Act-compliant government-issued picture identification card in order to gain admittance to the building. For more information on REAL ID and to check the compliance status of your state/territory, please see https://www.dhs.gov/real-id and https://www.dhs.gov/real-id-public-faqs.

For information on facilities or services for individuals with disabilities or to request special assistance at the meeting, contact the Alternate Designated Federal Officer as soon as possible using the contact information provided in the FOR FURTHER INFORMATION CONTACT section of this notice.

Instructions: You are free to submit comments at any time, including orally at the meetings, but if you want Committee members to review your comment before the meetings, please submit your comments no later than October 11, 2017. We are particularly interested in comments on the issues in the “Agenda” section below. You must include “Department of Homeland Security” and the docket number USCG-2017-0767. Written comments may also be submitted using the Federal eRulemaking Portal at http://www.regulations.gov. If you encounter technical difficulties with comments submission, contact the individual listed in the FOR FURTHER INFORMATION CONTACT section below. Comments received will be posted without alteration at http://www.regulations.gov, including any personal information provided. You may review the Privacy and Security Notice for the Federal Docket Management System at https://www.regulations.gov/privacyNotice.

Docket Search: For access to the docket to read documents or comments related to this notice, go to http://www.regulations.gov, type USCG-2017-0767 in the “Search” box, press Enter, and then click on the item you wish to view.

FOR FURTHER INFORMATION CONTACT: Mr. Davis Breyer, Alternate Designated Federal Officer of the Merchant Mariner Medical Advisory Committee, 2703 Martin Luther King Jr. Ave SE., Stop 7509, Washington, DC 20593-7509, telephone 202-372-1445, fax 202-372-8382 or davis.j.breyer@uscg.mil.

SUPPLEMENTARY INFORMATION: Notice of this meeting is pursuant with the Federal Advisory Committee Act, Title 5 United States Code Appendix.

The Merchant Mariner Medical Advisory Committee Meeting is authorized by section 210 of the U.S. Coast Guard Authorization Act of 2010 (Pub. L. 111-281, codified at 46 United States Code 7115). The Committee advises the Secretary on matters related to (a) medical certification determinations for issuance of licenses, certificates of registry, and merchant mariners' documents; (b) medical standards and guidelines for the physical qualifications of operators of commercial vessels; (c) medical examiner education; and (d) medical research.

Agenda

Day 1

The agenda for the October 18, 2017, meeting is as follows:

(1) Opening remarks from the Designated Federal Officer.

(2) Opening remarks from U.S. Coast Guard leadership.

(3) Roll call of Committee members and determination of a quorum.

(4) National Maritime Center brief.

(5) Public comment period.

(6) Working Groups will separately address the following task statements which are available for viewing at https://homeport.uscg.mil/medmac.

(a) Task statement 15-13, Mariner Occupational Health Risk Study Analysis. This is a duplicate task statement with the Merchant Marine Personnel Advisory Committee;

(b) Task statement 16-24, requesting recommendations on appropriate diets and wellness for mariners while aboard merchant vessels;

(c) Task statement 17-25, requesting recommendations on functions that would be useful to the mariner, ashore and afloat regarding their medical certification;

(d) Task statement 17-26, Input to Support Regulatory Reform of Coast Guard Regulations-Executive Orders 13771 and 13783.

(7) Adjournment of meeting.

Day 2

The agenda for the October 19, 2017, meeting is as follows:

(1) Committee work update.

(2) Continue work on task statements.

(3) Public comment period.

(4) The Working Groups report, and if applicable, make recommendations for the full Committee to consider for presentation to the U.S. Coast Guard. The Committee may deliberate and vote on the Working Group's recommendations on this date. The public will have an opportunity to speak after each Working Group's Report before the full Committee takes any action on each report.

(5) Closing remarks/plans for next meeting.

(6) Adjournment of Meeting.

A copy of all meeting documentation will be available at https://homeport.uscg.mil/medmac no later than October 11, 2017. Alternatively, you may contact Mr. Davis Breyer as noted in the FOR FURTHER INFORMATION section above.

Public comments will be limited to 5 minutes per speaker. Please note that the public comment periods will end following the last call for comments. Contact Mr. Davis Breyer as indicated in the FOR FURTHER INFORMATION CONTACT section of this document to register as a speaker.

Please note that the meeting may adjourn early if the work is completed.

Dated: September 18, 2017.
Jeffrey G. Lantz,
Director of Commercial Regulations and Standards.

[FR Doc. 2017-20208 Filed 9-21-17; 8:45 am]

BILLING CODE 9110-04-P